DEPARTMENT OF THE INTERIOR

Bureau of Land Management

[AK-962-1410-HY-P; AA-11145]

Alaska Native Claims Selection

AGENCY: Bureau of Land Management, DOI.

ACTION: Notice of decision designating lands for conveyance.

SUMMARY: Notice is hereby given that an appealable decision approving land for conveyance pursuant to Sec. 14(h)(1) of the Alaska Natives Claims Settlement Act of December 18, 1971, 43 U.S.C. 1613(h)(1) issued to Chugach Alaska Corporation for .50 acre of land in the vicinity of Prince William Sound. Notice of the decision will also be published four times in the Anchorage Daily News.

DATES: The time limits for filing an appeal are:

1. Any party claiming a property interest which is adversely affected by the decision shall have until November 13, 2001 to file an appeal.

2. Parties receiving service of the decision by certified mail shall have 30 days from the date of receipt to file an appeal.

Parties who do not file an appeal in accordance with the requirements of 43 CFR part 4, subpart E, shall be deemed to have waived their rights.

ADDRESSES: A copy of the decision may be obtained from: Bureau of Land Management, Alaska State Office, 222 West Seventh Avenue, #13, Anchorage, Alaska 99513-7599.

FOR FURTHER INFORMATION CONTACT: Chris Sitbon (907) 271-3226.

Authority: 43 CFR 2650.7(d).

Chris Sitbon,
Land Law Examiner.

[FR Doc. 01-25529 Filed 10-10-01; 8:45 am]

BILLING CODE 4310-84-P